DEPARTMENT OF HEALTH AND HUMAN SERVICES

Decision To Evaluate a Petition To Designate a Class of Employees From the Hanford Site in Richland, Washington, To Be Included in the Special Exposure Cohort

AGENCY: National Institute for Occupational Safety and Health (NIOSH), Centers for Disease Control and Prevention, Department of Health and Human Services.

ACTION: Notice.

SUMMARY: NIOSH gives notice of a decision to evaluate a petition to designate a class of employees from the Hanford site in Richland, Washington, to be included in the Special Exposure Cohort under the Energy Employees Occupational Illness Compensation Program Act of 2000.

FOR FURTHER INFORMATION CONTACT: Stuart L. Hinnefeld, Director, Division of Compensation Analysis and Support, National Institute for Occupational Safety and Health, 1090 Tusculum Avenue, MS C-46, Cincinnati, OH 45226-1938, Telephone 877-222-7570. Information requests can also be submitted by email to DCAS@CDC.GOV.

SUPPLEMENTARY INFORMATION:

Authority: 42 CFR 83.9-83.12.

Pursuant to 42 CFR 83.12, the initial proposed definition for the class being evaluated, subject to revision as warranted by the evaluation, is as follows:

Facility: Hanford site.

Location: Richland, Washington.

Job Titles and/or Job Duties: All employees of Department of Energy contractors and subcontractors (excluding employees of the following Hanford prime contractors during the specified periods: Battelle Memorial Institute, January 1, 1984 through December 31, 1990; Rockwell Hanford Operations, January 1, 1984 through June 28, 1987; Boeing Computer Services Richland, January 1, 1984 through June 28, 1987; UNC Nuclear Industries, January 1, 1984 through June 28, 1987; Westinghouse Hanford Company, January 1, 1984 through December 31, 1990; and Hanford Environmental Health Foundation, January 1, 1984 through December 31, 1990.

Period of Employment: January 1, 1984 through December 31, 1990.

John Howard
Director, National Institute for Occupational Safety and Health.

[FR Doc. 2015-06784 Filed 3-24-15; 8:45 am]

BILLING CODE 4163-19-P